GENERAL SERVICES ADMINISTRATION

Privacy Act of 1974; Notice of new System of Records

AGENCY: General Services Administration.

ACTION: New notice.

SUMMARY: GSA proposes to establish a new system of records subject to the Privacy Act of 1974, as amended, 5 U.S.C. 552a. The system collects information to provide updates and other important stimulus information to subscribers. The information may be used in conjunction with voluntarily supplied reports to further identify the source (by first name and geographical location). Anonymous aggregations may be used to understand regional trends and/or other statistical analyses. The information will only be used as discussed.

DATES: Effective June 8, 2009.

FOR FURTHER INFORMATION CONTACT: Call or e-mail the GSA Privacy Act Officer: telephone 202-208-1317; e-mail gsa.privacyact@gsa.gov.

ADDRESSES: GSA Privacy Act Officer (CIB), General Services Administration, 1800 F Street NW., Washington, DC 20405.

SUPPLEMENTARY INFORMATION: GSA proposes to establish a new system of records subject to the Privacy Act of 1974, as amended, 5 U.S.C. 552a. The system will collect information to provide updates and other important stimulus information to subscribers. The information may be used in conjunction with voluntarily supplied reports to further identify the source (by first name and geographical location). Anonymous aggregations may be used to understand regional trends and/or other statistical analyses. The information will only be used as discussed. Those having access to the information are system administrators and GSA staff and contractors and White House and Recovery Board officials with a strict need to know.

Dated: April 29, 2009.
James L. Atwater,
Director, Information Resources and Privacy Management Division.

GSA/RECOVERY-1

SYSTEM NAME:

Recovery.gov.

SYSTEM LOCATION:

The system is housed at GSA's central office. The program is developed by contractors.

CATEGORIES OF INDIVIDUALS COVERED BY THE SYSTEM:

Any person who uses the Web site Recovery.gov and voluntarily provides personal information.

CATEGORIES OF RECORDS IN THE SYSEM:

The system contains records that capture information users voluntarily provide including:

• Name

• E-mail address

• Telephone Number

• Address

• Comments such as a personal story of the effect on them of the economic downturn.

While it is possible that the comments contain identifiable information they cannot be used as a searchable index.

AUTHORITY FOR MAINTENANCE OF THE SYSTEM:

The American Recovery and Reinvestment Act of 2009 (Pub. L. 111-5, Title XV, Section 1526) establishes recovery.gov.

PURPOSE:

GSA proposes to establish a new system of records subject to the Privacy Act of 1974 (as amended), 5 U.S.C. 552a. The system will collect contact information to provide updates and other important stimulus information to subscribers. The information may be used in conjunction with voluntarily supplied reports to further identify the source (by first name and geographical location). Anonymous aggregations may be used to understand regional trends and/or other statistical analyses. The information will only be used as discussed. Those having access to the information are system administrators and GSA staff and contractors and White House and Recovery Board officials with a strict need to know.

ROUTINE USES OF THE SYSTEM RECORDS, INCLUDING CATEGORIES OF USERS AND THEIR PURPOSE FOR USING THE SYSTEM:

Information from this system may be disclosed as a routine use by the following:

a. System information may be accessed by system managers, technical support and designated analysts in the course of their official duties. The White House, Recovery Board officials and other authorized personnel may access demographic information to understand constituents' economic needs. They may access information to send emails to those who have signed up for this service.

b. Stories provided by individuals may be selected for publication and used in speeches or other discussions related to the stimulus and economic recovery. The only identification will be the user's first name and state of residence.

c. In any legal proceeding, where pertinent, to which GSA is a party before a court or administrative body.

d. To authorized officials engaged in investigating or settling a grievance, complaint, or appeal filed by an individual who is the subject of the record.

e. To a Federal, State, local, or foreign agency responsible for investigating, prosecuting, enforcing, or carrying out a statute, rule, regulation, or order when GSA becomes aware of a violation or potential violation of civil or criminal law or regulation.

f. To an appeal, grievance, hearing, or complaints examiner; an equal employment opportunity investigator, arbitrator, or mediator; and an exclusive representative or other person authorized to investigate or settle a grievance, complaint, or appeal filed by an individual who is the subject of the record.

g. To a Member of Congress or his or her staff on behalf of and at the request of the individual who is the subject of the record.

h. To an expert, consultant, or contractor of GSA in the performance of a Federal duty to which the information is relevant.

i. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or of other systems or programs (whether maintained by GSA or another agency or entity) that rely upon the compromised information; and (3) the disclosure made to such agencies, entities, and persons is reasonably necessary to assist in connection with GSA's efforts to respond to the suspected or confirmed compromise and prevent, minimize, or remedy such harm.

j. To the National Archives and Records Administration (NARA) for records management purposes.

POLICIES AND PRACTICES FOR STORING, RETRIEVING, ACCESSING, RETAINING, AND DISPOSING RECORDS IN THE SYSTEM:

STORAGE:

Records are stored on a secure server and accessed only by authorized personnel.

RETRIEVABILITY:

Records may be retrievable by name, email address, or any other personal information listed in the Categories of Records in the System except for personal story.

SAFEGUARDS:

System records are safeguarded in accordance with the requirements of the Privacy Act. Access is limited to authorized individuals with passwords, and the database is maintained behind a firewall certified by the National Computer Security Association.

RETENTION AND DISPOSAL:

System records are retained and disposed of according to GSA records maintenance and disposition schedules and the requirements of the Recovery Board and the National Archives and Records Administration.

SYSTEM MANAGER AND ADDRESS:

Director, Acquisition Environment Division, General Services Administration, 2011 Crystal Drive, Suite 911, Arlington, VA 22202.

NOTIFICATION PROCEDURE:

Individuals wishing to inquire if the system contains information about them should contact the system manager listed above.

RECORD ACCESS PROCEDURE:

Requests for access also may be directed to the system manager.

CONTESTING RECORD PROCEDURES:

Rules for contesting the content of a record and appealing a decision are contained in 41 CFR 105-64.

RECORD SOURCE CATEGORIES:

The sources for information in the system are the users themselves.

[FR Doc. E9-10411 Filed 5-6-09; 8:45 am]

BILLING CODE 6820-34-P